DEPARTMENT OF COMMERCE

National Oceanic and Atmospheric Administration

RIN 0648-XA41

Endangered Species; File No. 1526

AGENCY: National Marine Fisheries Service (NMFS), National Oceanic and Atmospheric Administration (NOAA), Commerce.

ACTION: Notice; receipt of application for modification

SUMMARY: Notice is hereby given that Andre Landry, Sea Turtle and Fisheries Ecology Research Lab, Texas A&M University at Galveston, 5007 Avenue U, Galveston, TX 77553, has requested a modification to scientific research Permit No. 1526.

DATES: Written, telefaxed, or e-mail comments must be received on or before June 25, 2007.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1526.

FOR FURTHER INFORMATION CONTACT: Patrick Opay, (301)713-2289.

SUPPLEMENTARY INFORMATION: The subject modification to Permit No. 1526, issued on August 1, 2005 (70 FR 44091) is requested under the authority of the Endangered Species Act of 1973, as amended (16 U.S.C. 1531 et seq.) and the regulations governing the taking, importing, and exporting of endangered and threatened species (50 CFR 222-226).

Permit No. 1526 authorizes the permit holder to study Kemp's ridley, loggerhead, green, and hawksbill sea turtles in the Gulf of Mexico to identify their relative abundance over time; detect changes in sea turtle size composition; document movement and migration patterns; and determine the role of nearshore habitats in sea turtle survival. The permit holder is asking to extend his current annual authorization to take 50 juvenile and 50 sub-adult green sea turtles in Laguna Madre, Texas through year 2010 in order to generate more robust population estimates, yield a larger sample size for estimating growth rates and residency and fidelity in constituent habitats, and increase the potential to recapture turtles for additional information. The permit holder also requests authorization to attach satellite transmitters to 20 animals annually and to collect biopsy samples from 150 animals annually for stable isotope analysis through year 2010 to learn more about habitat preference and residency. All animals would be captured in Texas waters in the manner already authorized under Permit No. 1526.

Dated: May 17, 2007.
P. Michael Payne,
Chief, Permits, Conservation and Education Division, Office of Protected Resources, National Marine Fisheries Service.

[FR Doc. E7-9963 Filed 5-23-07; 8:45 am]

BILLING CODE 3510-22-S